FEDERAL COMMUNICATIONS COMMISSION

Public Information Collection Requirement Submitted to OMB for Review and Approval, Comments Requested

August 22, 2008.

SUMMARY: The Federal Communications Commission, as part of its continuing effort to reduce paperwork burden, invites the general public and other federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 29, 2008. If you anticipate that you will be submitting comments, but find it difficult to do so within the period of time allowed by this notice, you should advise the contacts listed below as soon as possible.

ADDRESSES: Direct all PRA comments to Nicholas A. Fraser, Office of Management and Budget, via Internet at Nicholas_A._Fraser@omb.eop.gov or via fax at (202) 395-5167 and to Cathy Williams, Federal Communications Commission, Room 1-C823, 445 12th Street, SW., Washington, DC or via Internet at Cathy.Williams@fcc.gov or PRA@fcc.gov.

To view a copy of this information collection request (ICR) submitted to OMB: (1) go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the title of this ICR (or its OMB control number, if there is one) and then click on the ICR Reference Number to view detailed information about this ICR.”

FOR FURTHER INFORMATION CONTACT: For additional information or copies of the information collection(s), contact Cathy Williams at (202) 418-2918, or via Internet at Cathy.Williams@fcc.gov.

SUPPLEMENTARY INFORMATION: OMB Control Number: 3060-0095.

Title: Multi-Channel Video Programming Distributors Annual Employment Report.

Form Number: FCC Form 395-A.

Type of Review: Revision of a currently approved collection.

Respondents: Business or other for-profit entities; not-for-profit institutions.

Number of Respondents/Responses: 2,500.

Estimated Time per Response: 1 hour.

Frequency of Response: Recordkeeping requirement; Annual reporting requirement.

Total Annual Burden: 2,500 hours.

Total Annual Cost: None.

Obligation to Respond: Required to obtain or retain benefits. The statutory authority for this collection of information is contained in Sections 154(i) and 634 of the Communications Act of 1934, as amended.

Confidentiality: Whether the Form is confidential will be determined in a pending Commission rulemaking.

Privacy Impact Assessment: No impact(s).

Needs and Uses: FCC Form 395-A, “The Multi-Channel Video Programming Distributor Annual Employment Report,” is a data collection device used by the Commission to assess industry employment trends and provide reports to Congress. By the Report, multichannel video programming distributors (“MVPDs”) identify employees by gender and race/ethnicity in sixteen specified job categories. FCC Form 395-A contains a grid which collects data on full and part-time employees and requests a list of employees by job title, indicating the job category and full or part-time status of the position. MVPDs, including cable operators, with six or more full-time employees (but Satellite Master Antenna Television (“SMATV”) operators only if they also serve 50 or more subscribers) must complete Form 395-A in its entirety and file it by September 30 each year. MVPDs with five or fewer full-time employees are not required to file but, if, they do, they need to complete and file only Sections I, II and VIII of the FCC Form 395-A, but not the portions requiring workforce information, and thereafter need not file again unless their employment increases to more than five full-time employees.

In Review of the Commission's Broadcast and Cable Equal Employment Opportunity Rules and Policies, MM Docket No. 98-204, Third Report and Order and Fourth Notice of Proposed Rulemaking, 69 FR 34950, June 23, 2004, 19 FCC Rcd 9773 (2004) (“2004 Order”), the Commission considered issues relating to the Annual Employment Report forms, including Form 395-A. In the 3rd R&O, the Commission adopted revised rules requiring broadcasters and multichannel video programming distributors (MVPDs) to file annual employment reports, which cable and other MVPDs will use to file annual employment reports. The intent of the 3rd R&O was to update rules for MVPDs to file Form 395-A consistent with new rules adopted in the 2nd R&O. The intent of the Fourth Notice of Proposed Rulemaking, which remains pending, is to provide time for cable and other MVPDs and the public to address the issue of whether the Commission should keep these forms confidential after they are filed. Upon the effective date of the rulemaking deciding the confidentiality issue, MVPDs and broadcasters must start keeping records of their employees so they can prepare their annual employment reports due to be filed on the next due date thereafter.

In its 2004 Order, the Commission stated that Form 395-A conformed to the racial and employment categories contained in the then-existing Form EEO-1 Employer Information Report issued by Equal Employment Opportunity Commission (the “EEOC”), 2004 Order, at 9977-78. The Order noted that the EEOC had proposed to revise its EEO-1 form to incorporate new racial and employment categories approved by OMB. It also noted that, when the revised EEO-1 form was released, the Commission would review its Form 395-A to see what changes were needed to comply with the new OMB standards, and whether it could conform Form 395-A to those standards consistent with Section 634 of the Communications Act of 1934, as amended (the “Act”). 47 U.S.C. 554; see 2004 Order at 9978.

With the EEOC's release of the EEO-1 incorporating revised racial and employment categories, the Bureau sought public comment (“Media Bureau Seeks Comment on Possible Changes to FCC Forms 395-A and 395-B,” Public Notice DA 08-752, released April 11, 2008; 73 FR 21346, April 21, 2008) (the “Public Notice”) on whether to incorporate the EEOC's revised categories and whether such changes would be consistent with Section 634 of the Act. The public comment period ended on June 6, 2008, and the Commission has completed its review of all the comments and reply comments. The Commission did not receive any comments opposing the incorporation of the EEOC's revised categories in the FCC's annual employment reports.

The Commission has concluded that the proposed changes to FCC Form 395-A are consistent with the racial and job category data required by Section 634 of the Act because the revisions simply reflect different terminology for the same categories and more detailed sub-categories. 47 U.S.C. 554.

OMB Control Number: 3060-0390.

Title: Broadcast Station Annual Employment Report.

Form Number: FCC Form 395-B.

Type of Review: Revision of a currently approved collection.

Respondents: Business or other for-profit entities; Not-for-profit institutions.

Number of Respondents/Responses: 14,000.

Estimated Time per Response: 1 hour.

Frequency of Response: Annual reporting requirement.

Total Annual Burden: 14,000 hours.

Total Annual Cost: None.

Obligation to Respond: Required to obtain or retain benefits. The statutory authority for this collection of information is contained in Sections 154(i) and 334 of the Communications Act of 1934, as amended.

Confidentiality: Whether the Form is confidential will be determined in a pending Commission rulemaking.

Privacy Impact Assessment: No impact(s).

Needs and Uses: FCC Form 395-B, “The Broadcast Station Annual Employment Report,” is a data collection device used by the Commission to assess industry employment trends and provide reports to Congress. By the Report, broadcast licensees and permittees identify employees by gender and race/ethnicity in ten specified job categories. FCC Form 395-B contains two grids, which collect information of full and part-time employees, respectively, and requests lists of employees by job title, indicating the job category of the position. The Report, which is a data collection device used to compile statistics on the broadcast workforce, identifies each staff member by gender and race/ethnicity. Broadcast licensees or permittees with five or more full-time employees are required to file Form 395-B on or before September 30th of each year. Although licensees or permittees with fewer than five full-time employees are not required to file, if they do, they need to complete and file only Sections I, II and IV of the FCC Form 395-B, but not the portions requiring workforce information, and thereafter need not file again unless their employment increases to five or more full-time employees.

In Review of the Commission's Broadcast and Cable Equal Employment Opportunity Rules and Policies, MM Docket No. 98-204, Third Report and Order and Fourth Notice of Proposed Rulemaking, 69 FR 34950, June 23, 2004, 19 FCC Rcd 9773 (2004) (“2004 Order”), the Commission considered issues relating to the Annual Employment Report forms, including Form 395-B. In the 3rd R&O, the Commission adopted revised rules requiring broadcasters and multichannel video programming distributors (MVPDs) to file annual employment reports. Radio and television broadcasters will use Form 395-B to file annual employment reports. The intent of the 3rd R&O is to reinstate and update requirements for broadcasters and MVPDs to file annual employment reports. The intent of the Fourth Notice of Proposed Rulemaking, which remains pending, was to provide time for MVPDs, broadcast licensees, and the public to address the issue of whether the Commission should keep these forms confidential after they are filed. With the effective date of the rulemaking deciding the confidentiality issue, MVPDs and broadcasters must start keeping records of their employees so they can prepare their annual employment reports due to be filed on the first due date thereafter.

In its 2004 Order, the Commission stated that Form 395-B conformed to the racial and employment categories contained in the then-existing Form EEO-1 Employer Information Report issued by the Equal Employment Opportunity Commission (“EEOC”). 2004 Order, at 9977-78.

The Order noted that the EEOC had proposed to revise its EEO-1 form to incorporate new racial and employment categories approved by OMB. It also noted that, when the revised EEO-1 form was released, the Commission would review its Form 395-B to determine what changes were needed to comply with the new OMB standards, and whether it could conform Form 395-B to those standards consistent with Section 334 of the Communications Act of 1934, as amended (the “Act”). 47 U.S.C. 334; see 2004 Order at 9978.

With the EEOC's release of the EEO-1 incorporating revised racial and employment categories, the FCC's Media Bureau sought public comment (“Media Bureau Seeks Comment on Possible Changes to FCC Forms 395-A and 395-B,” Public Notice DA 08-752, released April 11, 2008; 73 FR 21346, April 21, 2008) (“Public Notice”) on whether to incorporate the EEOC's revised categories and whether such changes would be consistent with Section 334 of the Act. The public comment period ended on June 6, 2008, and the Commission has completed its review of all the comments and reply comments. The Commission did not receive any comments opposing the incorporation of the EEOC's revised categories in the FCC's annual employment reports.

The Commission has concluded that the proposed changes to FCC Form 395-B are consistent with Section 334 of the Act, which allows the FCC to make non-substantive technical or clerical revisions to annual employment reports in order to reflect changes in, inter alia, terminology. Because these changes do not subtract any information requested on the form, but rather seek more detail on race identification and official/manager occupations, with minor changes in terminology, we concluded that they are consistent with Section 334. 47 U.S.C. 334.

Federal Communications Commission.
Marlene H. Dortch,
Secretary.

[FR Doc. E8-20143 Filed 8-28-08; 8:45 am]

BILLING CODE 6712-01-P